DEPARTMENT OF TRANSPORTATION

Federal Highway Administration

Rescinding the Notice of Intent for an Environmental Impact Statement: Boulder, Broomfield, and Jefferson Counties, CO

AGENCY: Federal Highway Administration.

ACTION: Notice.

SUMMARY: This notice rescinds the Notice of Intent for preparing an Environmental Impact Statement that was issued on July 21, 2003, for a proposed transportation improvement project in Boulder, Broomfield, and Jefferson Counties, Colorado. The action is being taken because there are no federal or state funds identified to make the proposed transportation improvements in the corridor for the next 20 years. It is not known when federal or state funds may become available for these improvements therefore an Environmental Impact Statement will not be prepared until further notice.

FOR FURTHER INFORMATION CONTACT: Ms. Monica Pavlik, Senior Operations Engineer, FHWA, Colorado Division, 12300 West Dakota Avenue, Suite 180, Lakewood, CO 80228, Telephone: (720) 963-3012. Mr. William McDonnell, Project Engineer, Colorado Department of Transportation Region 6, 2000 South Holly Street, Denver, Colorado 80222, Telephone: (303) 757-9914.

SUPPLEMENTARY INFORMATION: The Federal Highway Administration (FHWA) in cooperation with the Colorado Department of Transportation (CDOT) initiated an Environmental Impact Statement (EIS) with a Notice of Intent July 21, 2003, for an improved connection between the western terminus of the Northwest Parkway in Broomfield County and the SH 58, 1-70, or C-470 freeway systems to the south in Jefferson County. This corridor is referred to as the Northwest Corridor. The FHWA and CDOT have determined that while major transportation improvements in the northwest Denver metropolitan area are needed, federal, state, or other funds are not available to meet these needs in the foreseeable future. Much work has been completed towards an EIS for this corridor and can serve as a planning foundation for future projects by CDOT or others.

In late 2007, it became apparent that many transportation needs in the State would be competing for very limited funding. This EIS project was one of four major Denver-area EISs initiated in 2003 with the expectation that funding levels would continue and possibly increase. While the need for a project is an important factor in determining which projects receive funding, those with the greatest public and local-entity support are more likely to receive funding in a fiscally-constrained, long-range plan. As a result, the current long-range plan does not include funding for the improvements studied for the Northwest Corridor. As such, it is not the best use of limited public funds to continue the NEPA process for this project. A report, Northwest Corridor Transportation and Environmental Planning Study, will document the results of the analysis to date and be available to the public in July/August 2008.

If any entity or authority, public or private, wants to proceed with improvements or connections to state highways in this area in the future, applicable state and federal requirements must be met and established study processes followed to determine feasibility and environmental impacts. In consultation with CDOT and FHWA, the Northwest Corridor Transportation and Environmental Planning Study document could support these efforts to develop future NEPA or technical studies. As part of planning and environmental linkages (PEL), elements that could be used to assist decision-making on future projects include purpose and need, alternatives development and evaluation, environmental resource background data, and public and agency coordination.

Authority: Catalog of Federal Domestic Assistance Program Number 20.205, Highway Planning and Construction. The regulations implementing Executive Order 12372 regarding intergovernmental consultation on Federal programs and activities apply to this program.

Issued on: June 25, 2008.
Karla S. Petty,
Colorado Division Administrator.

[FR Doc. E8-14907 Filed 6-30-08; 8:45 am]

BILLING CODE 4910-22-M